ENVIRONMENTAL PROTECTION AGENCY

[FRL-7776-1]

National Drinking Water Advisory Council; Request for Nominations

AGENCY: Environmental Protection Agency.

ACTION: Notice.

SUMMARY: The U.S. Environmental Protection Agency (EPA or Agency) invites all interested persons to nominate qualified individuals to serve a three-year term as members of the National Drinking Water Advisory Council (Council). This Council was established by the Safe Drinking Water Act (SDWA) to provide practical and independent advice, consultation, and recommendations to the Agency on the activities, functions, and policies related to the implementation of the SDWA.

DATES: Submit nominations via U.S. mail on or before August 31, 2004.

ADDRESSES: Address all nominations to Clare Donaher, Designated Federal Officer, National Drinking Water Advisory Council, U.S. Environmental Protection Agency, Office of Ground Water and Drinking Water (Mail Code 4601-M), 1200 Pennsylvania Avenue, NW., Washington, DC, 20460.

FOR FURTHER INFORMATION CONTACT: E-mail your questions to Clare Donaher, Designated Federal Officer, donaher.clare@epa.gov, or call 202-564-3787.

SUPPLEMENTARY INFORMATION: National Drinking Water Advisory Council: Persons selected for membership will receive compensation for travel and a nominal daily compensation while attending meetings. The Council holds two face-to-face meetings each year, generally in the spring and fall. Additionally, members may be asked to serve on one of the Council's workgroups that are formed each year to assist EPA in addressing specific program issues. These workgroup meetings are held approximately four times a year, typically, with two meetings by conference call.

The Council consists of 15 members, including a Chairperson, appointed by the Deputy Administrator. Five members represent the general public; five members represent appropriate State and local agencies concerned with water hygiene and public water supply; and five members represent private organizations or groups demonstrating an active interest in the field of water hygiene and public water supply. The SDWA requires that at least two members of the Council represent small, rural public water systems. On December 15 of each year, five members complete their appointment. Therefore, this notice solicits names to fill the five vacancies with appointed terms ending on December 15, 2007.

Nomination of a Member: Any interested person or organization may nominate qualified individuals for membership. Nominees should be identified by name, occupation, position, address and telephone number. To be considered, all nominations must include a current resume providing the nominee's background, experience and qualifications.

Dated: June 15, 2004.
Nanci Gelb,
Acting Director, Office of Ground Water and Drinking Water.

[FR Doc. 04-13934 Filed 6-18-04; 8:45 am]

BILLING CODE 6560-50-P